DEPARTMENT OF TRANSPORTATION

Federal Aviation Administration

14 CFR Part 39

[Docket No. 99-CE-34-AD; Amendment 39-12053; AD 2000-03-19]

RIN 2120-AA64

Airworthiness Directives; Industrie Aeronautiche e Meccaniche Model Piaggio P-180 Airplanes

AGENCY: Federal Aviation Administration, DOT.

ACTION: Final rule; Removal.

SUMMARY: This amendment removes Airworthiness Directive (AD) 2000-03-19, which currently applies to all Industrie Aeronautiche e Meccaniche (I.A.M.) Model Piaggio P-180 airplanes that are equipped with pneumatic deicing boots. AD 2000-03-19 requires revising the Airplane Flight Manual (AFM) to include requirements for activating the airframe pneumatic deicing boots. Since FAA issued AD 2000-03-19, I.A.M. has shown the language currently included in the AFM and the airplane configuration are satisfactory to address the conditions identified in AD 2000-03-19. Therefore, this action removes AD 2000-03-19.

EFFECTIVE DATE: This removal is effective January 2, 2001.

FOR FURTHER INFORMATION CONTACT: Larry Werth, Airworthiness Directive Coordinator, FAA, Small Airplane Directorate, 901 Locust, Room 301, Kansas City, Missouri 64106; telephone: (816) 329-4147; facsimile: (816) 329-4090.

SUPPLEMENTARY INFORMATION:

Discussion

Has FAA taken any action to this point? Reports of in-flight incidents and an accident (on airplanes other than I.A.M. Piaggio Model P-180 airplanes), that occurred in icing conditions where the airframe pneumatic deicing boots were not activated, caused FAA to issue AD 2000-03-19, Amendment 39-11578 (65 FR 7717, February 16, 2000). This AD currently requires revising the Airplane Flight Manual (AFM) to include requirements for activating the airframe pneumatic deicing boots on all I.A.M. Model Piaggio P-180 airplanes that are equipped with pneumatic deicing boots.

The actions of AD 2000-03-19 are intended to assure that flightcrews have the information necessary to activate the pneumatic wing and tail deicing boots at the first signs of ice build-up. Without this information, flightcrews could experience reduced control of the aircraft because of adverse aerodynamic effects of ice adhering to the airplane before the first deicing cycle.

After issuing AD 2000-03-19, I.A.M. asserted that the wording within the AFM (without the revision) and the configuration of the airplane deice system provide for safe operation of the affected airplanes. Therefore, I.A.M. requests FAA remove the final rule because the AD requirements are redundant. The FAA has since evaluated all information related to the subject matter of AD 2000-03-19 and has determined the actions included in AD 2000-03-19 are redundant and not necessary.

We issued a proposal to amend part 39 of the Federal Aviation Regulations (14 CFR part 39) to remove AD 2000-03-19. This proposal was published in the Federal Register as a Notice of proposed rulemaking (NPRM); removal of final rule on October 19, 2000 (65 FR 62650).

Was the public invited to comment? Interested persons were afforded an opportunity to participate in the making of the action. No comments were received on the proposed rule.

FAA's Determination

What is FAA's Final Determination on this Issue? Based on the above information, FAA has determined there is no need for AD 2000-03-19 and that it should be removed.

This action removes AD 2000-03-19. Removal of AD 2000-03-19 will not preclude FAA from issuing another action in the future, nor will it commit us to any course of action in the future.

Regulatory Impact

Does this action involve a significant rule or regulatory action? Since this action only removes an AD, it is not an AD and, therefore, is not covered under Executive Order 12866, the Regulatory Flexibility Act, or DOT Regulatory Policies and Procedures (44 FR 11034, February 26, 1979).

List of Subjects in 14 CFR Part 39

Air transportation, Aircraft, Aviation safety, Safety.

The Removal

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2000-03-19, Amendment 39-11578 (65 FR 7717, February 16, 2000).

Issued in Kansas City, Missouri, on December 19, 2000.
Michael Gallagher,
Manager, Small Airplane Directorate, Aircraft Certification Service.

[FR Doc. 00-32935 Filed 12-29-00; 8:45 am]

BILLING CODE 4910-13-U